DEPARTMENT OF COMMERCE

National Oceanic and Atmospheric Administration

[RTID 0648-XB803]

Pacific Fishery Management Council; Public Meeting

AGENCY: National Marine Fisheries Service (NMFS), National Oceanic and Atmospheric Administration (NOAA), Commerce.

ACTION: Notice of public meeting.

SUMMARY: The Pacific Fishery Management Council's (Pacific Council) Ad Hoc Marine Planning Committee (MPC) will hold a public online meeting.

DATES: The online meeting will be held Friday, March 4, 2022, from 1 p.m. to 5 p.m. Pacific Standard Time or until business for the day has been completed.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Kerry Griffin, Staff Officer, Pacific Council; telephone: (503) 820-2409.

SUPPLEMENTARY INFORMATION: The primary purpose of this online meeting is to discuss the next steps in the authorization process for commercial offshore wind energy leasing, including a description of proposed offshore wind (OSW) planning Call Area(s) off the Oregon Coast and to solicit public comment. This meeting will include representatives from the Bureau of Ocean Energy Management (BOEM), who will provide a presentation on the proposed Call Area(s), followed by discussion with the MPC and meeting participants. The meeting is open to all interested parties with a primary audience focus of fishery sector participants and stakeholders that operate in Oregon, particularly in the Oregon offshore wind planning area (see www.boem.gov/OR_PlanningArea_NOAAChart). The proposed Call Area(s) are scheduled to be presented at the February 25, 2022, meeting of the BOEM Oregon Intergovernmental Renewable Energy Task Force (Task Force) meeting (see www.boem.gov/Oregon for meeting information). This MPC meeting follows the Task Force meeting, with the objective of continued outreach and engagement. BOEM may schedule or be invited to participate in additional sector-specific meetings to continue outreach and engagement efforts related to OSW planning activities. The meeting agenda and instructions on attending the meeting will be available on the Pacific Council's website in advance of the meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: February 9, 2022.
Tracey L. Thompson,
Acting Deputy Director, Office of Sustainable Fisheries, National Marine Fisheries Service.

[FR Doc. 2022-03102 Filed 2-11-22; 8:45 am]

BILLING CODE 3510-22-P